DEPARTMENT OF COMMERCE

Submission for OMB Review; Comment Request

The Department of Commerce will submit to the Office of Management and Budget (OMB) for clearance the following proposal for collection of information under the provisions of the Paperwork Reduction Act (44 U.S.C. Chapter 35).

Agency: National Institute of Standards and Technology (NIST).

Title: Malcolm Baldrige National Quality Award and Examiner Applications.

OMB Control Number: 0693-0006.

Form Number(s): None.

Type of Request: Regular submission (revision of a currently approved information collection).

Number of Respondents: 850 (50—Awardees; 800—Examiners).

Average Hours per Response: Award Applications, 74 hours; Examiner Applications, 1 hour.

Burden Hours: 4,500.

Needs and Uses: Public Law 100-107, the Malcolm Baldrige Quality Improvement Act of 1987, established an annual U.S. National Quality Award. The Secretary of Commerce leads and NIST develops and manages the Award in corporation with the private sector. The purposes of the Award are to promote competitiveness and quality awareness, recognize the performance achievements of U.S. companies, and share successful strategies and practices. The law explicitly states that “An organization may qualify for an award only if it permits a rigorous evaluation of the way in which its business and other operations have contributed to improvements in quality.” The failure to collect the information required of the Award and Examiner applicants would make it impossible to evaluate the applications and grant the Awards, and violate our statutory responsibilities.

Revision: New Baldrige Award eligibility rules require applicants for the national award first receive the top-tier award from a Baldrige-based state or sector program. This intentionally reduced the number of national applications in an effort to strengthen Baldrige-based programs and to highlight the quality of national applications. The new eligibility rules therefore bring the most mature, best-qualified organizations to the national program.

Affected Public: Business or other for-profit organizations; not-for-profit institutions; education and health care institutions, and government entities may apply for the Award. Individuals with expertise in the business, education, health care, and/or nonprofit fields are eligible to apply to become members of the Malcolm Baldrige National Quality Award Board of Examiners.

Frequency: Annually.

Respondent's Obligation: Voluntary.

OMB Desk Officer: Jasmeet Seehra, (202) 395-3123.

Copies of the above information collection proposal can be obtained by calling or writing Jennifer Jessup, Departmental Paperwork Clearance Officer, Department of Commerce, Room 6616, 14th and Constitution Avenue NW., Washington, DC 20230 (or via the Internet at jjessup@doc.gov).

Written comments and recommendations for the proposed information collection should be sent within 30 days of publication of this notice to Jasmeet Seehra, OMB Desk Officer, FAX number (202) 395-5167 or via the Internet at Jasmeet_K._Seehra@omb.eop.gov.

Dated: March 7, 2013.
Gwellnar Banks,
Management Analyst, Office of the Chief Information Officer.

[FR Doc. 2013-05718 Filed 3-12-13; 8:45 am]

BILLING CODE 3510-13-P